DEPARTMENT OF COMMERCE

International Trade Administration

Energy Efficiency Trade Mission to India (November 16-20, 2009)

AGENCY: Department of Commerce.

ACTION: Notice.

Mission Description

Ro Khanna, Deputy Assistant Secretary for Domestic Operations, U.S. and Foreign Commercial Service, will lead an Energy Efficiency Trade Mission to India, November 16-20, 2009. Organized by the United States Department of Commerce, International Trade Administration, U.S. and Foreign Commercial Service (CS), in partnership with the U.S. Department of Energy (DOE) and U.S. Agency for International Development (USAID), the mission will introduce U.S. manufacturers of energy efficient products and technologies to opportunities in the Indian market. Delegation members will participate in a major DOE and USAID event called “U.S.-India Energy Efficiency Technology Cooperation Conference” in New Delhi. The mission will include appointments, briefings and site visits in New Delhi, Chennai and Mumbai, some of India's most progressive cities dealing with energy efficiency. Trade mission participants will have customized business matchmaking appointments with potential clients, end-users, and partners, and meetings with key Government of India (GOI) and local government officials.

Commercial Setting

India is increasingly exploring energy efficient ways of expanding its power supply, due to very limited natural resources and chronic power shortages. In May 2008, the Ministry of Power stated that the energy conservation potential with today's technologies could be 20,000 MW. The Government of India (GOI), aligned with five-year plans, saved only 877 MW from 2002-2007, but from 2007-2012, the target is 10,000 MW. With some of the highest energy prices in the world, Indian companies already have a strong incentive to save on these costs.

New GOI targets will soon accelerate the growth of the energy efficiency market in India. To reduce both energy costs and waste, the National Action Plan on Climate Change will soon regulate large energy users such as railways and the aluminum, cement, chlor-alkali, pulp and paper, fertilizer and steel industries, as well as power generation plants. The GOI Bureau of Energy Efficiency will establish sector targets by March 2010, after which point large energy users will be regulated on their energy usage as per the industry targets. This provides tremendous potential for U.S. manufacturers of energy efficient products and energy service companies to tap into these lucrative opportunities. While energy efficiency has many applications in India, recruitment efforts for the trade mission will focus on two of the most promising:

• Industrial: The energy intensity, or the amount of energy used, in India is generally very high due to obsolete and inefficient energy technologies. The industrial sector comprises 50 percent of India's commercial energy use. According to the Asian Development Bank, the market potential for industrial energy efficiency is approximately $27 billion (with energy savings of 7000 MW). To reduce energy consumption, the GOI plans to analyze the energy requirements of 750 large industrial installations across the above-mentioned energy-intensive sectors, which will be an opportunity for U.S. companies to participate in upgrading equipment and processes. Best prospects for U.S. firms include energy efficient compressors, boilers, turbines, combined cycle power production, heat recovery technology, process control systems, hydraulics, cogeneration equipment, meters, sensors/controls, heating/cooling (HVAC) systems, lighting units, pumps, appliances, steam systems/generators, and related IT and energy services.

• Construction/green building: India's green building market is expected to grow to $3.1 billion by 2010. In 2008, fifteen LEED (Leader in Energy and Environmental Design)-certified green buildings were erected in India, with over 1,000 green-friendly buildings expected by 2010. The certifications were made by the CII-Green Business Centre based on standards established by the U.S. Green Building Council. Additionally, many of the industrial installations mentioned above will likely adopt some green building techniques to further cut down their energy costs to meet the new industry energy-usage standards. Green buildings lend a cachet for large Indian companies and multinationals in their development plans. Best prospects include, but are not limited to, heating/cooling (HVAC) systems, lighting units, pumps, appliances, steam systems/generators, roofing systems, windows, recycled building materials, efficient water technologies, renewable energy technologies, landscape design and effective controls and building management systems.

• The mission stops will focus on three of the most promising cities in India for energy efficiency: New Delhi, Chennai and Mumbai, with matchmaking in all three cities. New Delhi, as India's capital, will offer the aforementioned DOE/USAID conference and meetings with GOI officials to learn more about policies and opportunities in India. Chennai, an industrial/manufacturing hub, has enormous potential for energy efficiency. Likewise, Mumbai has many energy-intensive industries that could benefit from energy efficient products and services.

Mission Goals

The goal of the Energy Efficiency Trade Mission to India is to (1) facilitate deals by match-making U.S. companies with pre-screened industry representatives and potential clients, customers and partners; and (2) introduce U.S. companies to industry and government officials in India to learn about policy initiatives that will ease the implementation and financing of energy efficiency projects.

Mission Scenario

The first stop on the mission itinerary is New Delhi. The delegates will participate in a DOE/USAID conference on Energy Efficiency, which will allow them to network and learn about policies and market opportunities in India. Additionally, the Commercial Service office in India (CS India) will work with the conference organizers to include the U.S. trade mission participants as speakers for the appropriate technical sessions of the conference. The conference will be attended by top decision makers from the Government of India and executives of large companies. The policy recommendations from the last conference in 2006 were influential in helping the Indian Government to formulate its Integrated Energy Strategy later that year. After (and during) the conference, the CS office in New Delhi will arrange one day of matchmaking for each company.

Then the group will travel to Chennai, a state with chronic power shortages, for matchmaking meetings and a networking reception. Given its power woes, energy efficiency is a top political priority for the state. Moreover, Chennai is the base for many large Indian and foreign manufacturing installations, which could benefit from energy efficient services and technologies, and home to India's National Energy Efficiency Center of Excellence. Additionally, the green building concept has also gained prominence in Chennai as some of the most recent LEED-certified buildings were built there in 2008.

Finally, the delegation will visit Mumbai to participate in one day of matchmaking meetings. As the business and financial capital of the country, Mumbai is home to many energy-intensive industrial sectors and many of the leading design/architecture firms that promote green building in India. The Commercial Service office in Mumbai will arrange matchmaking meetings with potential end-users as well as joint venture partners, and will also organize a roundtable session to discuss financing mechanisms for energy efficiency projects in India.

Participation in the mission will include the following:

• Pre-travel briefings/webinar on subjects ranging from business practices in India to security;

• Pre-scheduled meetings with potential partners, distributors, end-users, or local industry contacts in New Delhi, Chennai and Mumbai;

• Transportation to airports in New Delhi, Chennai and Mumbai;

• Conference in New Delhi;

• Meetings with Indian Government officials;

• Participation in industry receptions in New Delhi and Chennai and a financing roundtable luncheon in Mumbai; and

• Meetings with CS India's energy efficiency industry specialists in New Delhi, Chennai and Mumbai.

Proposed Mission Timetable

Companies will be encouraged to arrive Saturday to allow time to rest after their long trip and adjust to the time change before the mission program begins on Monday, November 16.

Monday November 16 | New Delhi Welcome briefing by U.S. Departments of Commerce and State, Participation in DOE/AID Energy Efficiency Conference, One-on-one business matchmaking appointments, Networking reception.
Tuesday November 17 | New Delhi Participation in DOE/AID Energy Efficiency Conference, One-on-one business matchmaking appointments.
Wednesday November 18 | New Delhi/Chennai Morning flight to Chennai, One-on-one business matchmaking appointments, Networking reception.
Thursday November 19 | Chennai/Mumbai One-on-one business matchmaking appointments, Optional site visit, Evening flight to Mumbai.
Friday November 20 | Mumbai One-on-one business matchmaking appointments, Roundtable on financing mechanisms for energy efficiency projects in India.

Participation Requirements

All parties interested in participating in the Energy Efficiency Trade Mission to India must complete and submit an application for consideration by the Department of Commerce. All applicants will be evaluated on their ability to meet certain conditions and best satisfy the selection criteria as outlined below. The mission will be open on a first come first served basis to 12 qualified U.S. companies.

Fees and Expenses:

After a company has been selected to participate on the mission, a payment to the Department of Commerce in the form of a participation fee is required. The participation fee will be $3,500 for small or medium-sized enterprises (SME),* and $4,200 for large firms, which includes one principal representative. The fee for each additional firm representative (large firm or SME) is $750. Expenses for lodging, some meals, incidentals, and travel (except for transportation to and from airports in-country, previously noted) will be the responsibility of each mission participant. The conference fee is included in the trade mission cost.

* An SME is defined as a firm with 500 or fewer employees or that otherwise qualifies as a small business under SBA regulations (see http://www.sba.gov/services/contracting opportunities/sizestandardstopics/index.html). Parent companies, affiliates, and subsidiaries will be considered when determining business size. The dual pricing schedule reflects the Commercial Service's user fee schedule that became effective May 1, 2008 (for additional information see http://www.export.gov/newsletter/march2008/initiatives.html).

Conditions for Participation:

• An applicant must submit a completed and signed mission application and supplemental application materials, including adequate information on the company's products and/or services, primary market objectives, and goals for participation.

• Each applicant must also certify that the products and services it seeks to export through the mission are either produced in the United States, or, if not, marketed under the name of a U.S. firm and have at least fifty-one percent U.S. content.

Selection Criteria for Participation:

Selection will be based on the following criteria:

• Suitability of a company's products or services to the mission's goals

• Applicant's potential for business in India, including likelihood of exports resulting from the trade mission

• Consistency of the applicant's goals and objectives with the stated scope of the trade mission

Any partisan political activities (including political contributions) of an applicant are entirely irrelevant to the selection process.

Timeframe for Recruitment and Applications

Mission recruitment will be conducted in an open and public manner, including publication in the Federal Register, posting on the Commerce Department trade mission calendar (http://www.ita.doc.gov/doctm/tmcal.html) and other Internet Web sites, press releases to general and trade media, direct mail, notices by industry trade associations and other multiplier groups, and publicity at industry meetings, symposia, conferences, and trade shows. Recruitment for the mission will begin immediately and conclude no later than September 30, 2009. The mission will be open on a first come first served basis. Applications received after that date will be considered only if space and scheduling constraints permit.

Contacts:

Houston Export Assistance Center: Ms. Nyamusi Igambi, Nyamusi.Igambi@mail.doc.gov, Ph: 713-209-3112, Fax: 713-209-3135.

U.S. Commercial Service in India: Mr. Vaidyanathan Purushothaman, U.S. Commercial Service Chennai, Ph: 91-44-2857-4031, Fax: 91-44-2857-4212, Vaidyanathan.purushothaman@mail.doc.gov.

Sean Timmins,
Global Trade Programs, Commercial Service Trade Missions Program.

[FR Doc. E9-19777 Filed 8-17-09; 8:45 am]

BILLING CODE 3510-FP-P